DEPARTMENT OF COMMERCE

International Trade Administration

A-570-888

Floor-standing, Metal-top Ironing Tables and Certain Parts Thereof from the People's Republic of China: Notice of Extension of Time Limit for Final Results of Second Antidumping Administrative Review

AGENCY: Import Administration, International Trade Administration, Department of Commerce.

EFFECTIVE DATE: January 31, 2008.

FOR FURTHER INFORMATION CONTACT: Bobby Wong, AD/CVD Operations, Office 9, Import Administration, International Trade Administration, U.S. Department of Commerce, 14th Street and Constitution Avenue, NW., Washington, DC 20230; telephone: (202) 482-0409.

SUPPLEMENTARY INFORMATION:

Background

On September 11, 2007, the Department of Commerce (the Department) published in the Federal Register the preliminary results of this antidumping administrative review. Floor-Standing, Metal-Top Ironing Tables and Certain Parts Thereof from the People's Republic of China: Preliminary Results of Antidumping Duty Administrative Review, 72 FR 51781 (September 11, 2007). On December 28, 2007, the Department extended the deadline for these results by 23 days. Floor-standing, Metal-top Ironing Tables and Certain Parts Thereof from the People's Republic of China: Notice of Extension of Time Limit for Final Results of Second Antidumping Administrative Review, 72 FR 73758 (December 28, 2007). The period of review for this administrative review is August 1, 2005, to July 31, 2006.

Extension of Time Limits for Final Results

Pursuant to section 751(a)(3)(A) of the Tariff Act of 1930, as amended (the Act), and section 351.213(h)(1) of the Department's regulations, the Department shall issue the preliminary results of an administrative review within 245 days after the last day of the Error! Main Document Only.anniversary month of the date of publication of the order. The Act further provides that the Department shall issue the final results of review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days.

In the instant review, the Department finds that the current deadline for the final results of February 1, 2008, is not practicable. The Department requires additional time to conduct surrogate value research and review and analyze interested party comments. As a result, the Department has determined to extend the current time limits of this administrative review by an additional 37 days. Since a 37-day extension would result in the deadline for the final results falling on March 9, 2008, which is a Sunday, the new deadline for the final results will be the next business day, March 10, 2008. Notice of Clarification: Application of “Next Business Day” Rule for Administrative Determination Deadlines Pursuant to the Tariff Act of 1930, As Amended, 70 FR 24533 (May 10, 2005).

This notice is issued and published in accordance with sections 751(a)(3)(A) and 777(I) of the Act.

Dated: January 24, 2008.
Stephen J. Claeys,
Deputy Assistant Secretary for Import Administration.

[FR Doc. E8-1800 Filed 1-30-08; 8:45 am]

BILLING CODE 3510-DS-S